DEPARTMENT OF TRANSPORTATION

Federal Aviation Administration

14 CFR Part 39

[Docket No. 2001-SW-35-AD; Amendment 39-12976; AD 2002-25-01]

RIN 2120-AA64

Airworthiness Directives; Eurocopter France Model AS332C, AS332L, AS332L1, SA330F, SA330G, and SA330J Helicopters

AGENCY: Federal Aviation Administration, DOT.

ACTION: Final rule.

SUMMARY: This amendment adopts a new airworthiness directive (AD) for the specified Eurocopter France (ECF) model helicopters that requires inspecting the tail rotor pitch change rod (change rod) bearing (bearing) and, after inspecting the control rod, replacing the bearing if it does not meet the specified tolerance. This AD requires inspecting the bearing for spalling, friction, and grinding and inspecting the control rod and bearing housing for wear marks and scoring. This amendment is prompted by the seizure of a bearing on an ECF Model SA330 helicopter. The actions specified by this AD are intended to prevent bearing wear, seizure of the bearing, loss of tail rotor effectiveness, and subsequent loss of control of the helicopter.

DATES: Effective January 22, 2003.

The incorporation by reference of certain publications listed in the regulations is approved by the Director of the Federal Register as of January 22, 2003.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: A proposal to amend 14 CFR part 39 to include an AD for ECF Model AS332C, AS332L, AS332L1, SA330F, SA330G, and SA330J helicopters, was published in the Federal Register on July 19, 2002 (67 FR 47488). That action proposed to require the following inspections initially, repetitively, and before installing any tail rotor gearbox that has been previously installed on another helicopter and has not been inspected:

• Inspect the tail rotor spider for end play. Remove the change rod bearing if the tail rotor spider is not within allowable tolerances.

• Inspect each bearing for spalling, friction, grinding, damaged bearing sealing flanges, overheating at the bearing inner and outer races and the flanges, deposits of corrosion, and shearing or wear marks on the lockwasher, and remove any unairworthy bearing.

• If a bearing is removed, before replacing the bearing, inspect the change rod for visible wear marks or scoring on the bearing journal circumference. If wear marks or circular scoring is found, repair or replace the bearing housing.

The Direction Generale De L'Aviation Civile (DGAC), the airworthiness authority for France, notified the FAA that an unsafe condition may exist on ECF Model AS332C, AS332C1, AS332L, AS332L1, SA330F, SA330G, and SA330J helicopters. The DGAC advises that the pitch change rod bearing seized on a Model SA330 helicopter.

ECF has issued Eurocopter France Alert Service Bulletin (ASB) Nos. 05.81, Revision 2, and 05.00.29, Revision 3, both dated January 18, 2001, which specify modifying the operational and bearing check procedure for the change rod equipped with bearing, part number (P/N) 330A33-9903-20. The DGAC classified ASB No. 05.00.29, Revision 3, dated January 18, 2001, as mandatory and issued AD No. 1990-230-041(A) R4, dated February 21, 2001, to ensure the continued airworthiness of the ECF Model AS332 helicopters in France.

Interested persons have been afforded an opportunity to participate in the making of this amendment. No comments were received on the proposal or the FAA's determination of the cost to the public. The FAA has determined that air safety and the public interest require the adoption of the rule as proposed.

The FAA estimates that 3 helicopters of U.S. registry will be affected by this AD, that it will take approximately 4 work hours per helicopter to inspect and replace a bearing, and that the average labor rate is $60 per work hour. Required parts will cost approximately $120 per helicopter. Based on these figures, the total cost impact of the AD on U.S. operators is estimated to be $1,080, assuming one bearing is replaced on each helicopter.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-25-01 Eurocopter France: Amendment 39-12976. Docket No. 2001-SW-35-AD.

Applicability: Model AS332C, AS332L, AS332L1, SA330F, SA330G, and SA330J helicopters with a tail rotor pitch change rod (rod) and a bearing, part number 330A33-9903-20, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Within 20 hours time-in-service (TIS) or 1 month, whichever occurs first, or before installing any tail rotor gearbox previously installed on another helicopter and not inspected within the previous 250 hours TIS, unless accomplished previously, and thereafter at intervals not to exceed 250 hours TIS or 18 months, whichever occurs first.

To prevent bearing wear, bearing seizure of the change rod, loss of tail rotor effectiveness, and subsequent loss of control of the helicopter, accomplish the following:

(a) Inspect the axial end play of the tail rotor pitch change spider assembly in accordance with the Accomplishment Instructions, paragraph 2.B.1. of Eurocopter France (ECF) Alert Service Bulletin No. 05.81, Revision 2, dated January 18, 2001 (ASB 330) for the ECF Model 330 helicopters or Eurocopter France Alert Service Bulletin No. 05.00.29, Revision 3, dated January 18, 2001, (ASB 332) for the Model 332 helicopters. If the axial end play is not within allowable tolerances, remove the rod bearing from service.

(b) Inspect each bearing for spalling, friction, grinding, damaged bearing sealing flanges, overheating at the bearing inner and outer races and the flanges, deposits of corrosion, and shearing or wear marks on the lockwasher in accordance with the Accomplishment Instructions, paragraph 2.B.2., of ASB 330 or ASB332, as applicable. Remove from service any unairworthy bearing.

(c) If a bearing is removed from service, before replacing the bearing with an airworthy bearing:

(1) Inspect the change rod for visible wear marks or scoring on the bearing journal circumference. If marks or scoring is found, remove the change rod from service.

(2) Inspect the bearing housing for visible wear marks or circular scoring. If wear marks or circular scoring is found, repair or replace the bearing housing in accordance with the Accomplishment Instructions, paragraph 2.B.3., of ASB 330 or ASB 332, as applicable.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits will not be issued.

(f) The inspections required by this AD shall be done in accordance with the Accomplishment Instructions in Eurocopter France Alert Service Bulletin No. 05.81, Revision 2, dated January 18, 2001, for Model 330 helicopters, or Eurocopter France Alert Service Bulletin No. 05.00.29, Revision 3, dated January 18, 2001, for Model 332 helicopters. These incorporations by reference were approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on January 22, 2003.

Note 3: The subject of this AD is addressed in Direction Generale De L'Aviation Civile (France) AD No. 1990-230-041(A) R4, dated February 21, 2001.

Issued in Fort Worth, Texas, on November 25, 2002.
Eric D. Bries,
Acting Manager, Rotorcraft Directorate, Aircraft Certification Service.

[FR Doc. 02-31177 Filed 12-17-02; 8:45 am]

BILLING CODE 4910-13-P